COMMISSION ON CIVIL RIGHTS

Sunshine Act Notice

AGENCY: United States Commission on Civil Rights.

ACTION: Notice of meeting.

DATE AND TIME: Friday, March 11, 2011; 9:30 a.m. EST.

PLACE: 624 Ninth Street, NW., Room 540, Washington, DC 20425.

Briefing Agenda

This briefing is open to the public.

Topic: The Civil Rights Implications of Eminent Domain Abuse.

I. Introductory Remarks by Chairman.

II. Speakers' Presentations.

III. Questions by Commissioners and Staff Director.

IV. Adjourn Briefing.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: December 3, 2010.
David Blackwood,
General Counsel.

[FR Doc. 2010-30935 Filed 12-6-10; 11:15 am]

BILLING CODE 6335-01-P